DEPARTMENT OF COMMERCE

National Oceanic and Atmospheric Administration

Membership of the National Oceanic and Atmospheric Administration Performance Review Board

AGENCY: National Oceanic and Atmospheric Administration (NOAA), Department of Commerce.

ACTION: Notice of Membership of NOAA Performance Review Board.

SUMMARY: In accordance with 5 U.S.C. 4314(c)(4), NOAA announces the appointment of an additional member to serve on the NOAA Performance Review Board (PRB). The NOAA PRB is responsible for reviewing performance appraisals and ratings of Senior Executive Service (SES) members and making written recommendations to the appointing authority on SES retention and compensation matters, including performance-based pay adjustments, awarding of bonuses and reviewing recommendations for potential Presidential Rank Award nominees, and SES recertification. The appointment of members to the NOAA PRB will be for a period of 24 months.

EFFECTIVE DATE: The effective date of service of the additional appointee to the NOAA Performance Review Board is September 21, 2001.

FOR FURTHER INFORMATION CONTACT: David M. Belt, Executive Resources Program Manager, Human Resources Management Office, Office of Finance and Administration, NOAA, 1305 East-West Highway, Silver Spring, Maryland 20910, (301) 713-0530 (ext. 204).

SUPPLEMENTARY INFORMATION: The name and position title of the additional member of the NOAA PRB is set forth below: Louis W. Uccellini, Director, National Centers for Environmental Prediction, National Weather Service, NOAA.

Dated: September 24, 2001.
Scott B. Gudes,
Acting Under Secretary/Administrator and Deputy Under Secretary.

[FR Doc. 01-24784 Filed 10-3-01; 8:45 am]

BILLING CODE 3510-12-M